DEPARTMENT OF THE TREASURY

Office of Foreign Assets Control

Notice of OFAC Sanctions Action

AGENCY: Office of Foreign Assets Control, Treasury.

ACTION: Notice

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of this person are blocked, and U.S. persons are generally prohibited from engaging in transactions with them.

DATES: See SUPPLEMENTARY INFORMATION section.

FOR FURTHER INFORMATION CONTACT:

OFAC: Associate Director for Global Targeting, tel.: 202-622-2420; Assistant Director for Sanctions Compliance & Evaluation, tel.: 202-622-2490; Assistant Director for Licensing, tel.: 202-622-2480; Assistant Director for Regulatory Affairs, tel. 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Action(s)

On September 12, 2018, OFAC determined that the property and interests in property subject to U.S. jurisdiction of the following person is blocked under the relevant sanctions authority listed below.

Individual:

1. JADHRAN, Ibrahim (a.k.a. AL-JADRAN AL-MAGHRIBI, Ibrahim Saad; a.k.a. JATHRAN, Ibrahim), Libya; DOB 1979 to 1982; POB Ajdabia, Libya; nationality Libya; Gender Male (individual) [LIBYA3].

Designated pursuant to Section 1(a)(v) of Executive Order 13726 of April 19, 2016, “Blocking Property and Suspending Entry Into the United States of Persons Contributing to the Situation in Libya” (E.O. 13726) for being a leader of an entity that has, or whose members have, engaged in planning, directing, or committing attacks against any Libyan state facility or installation (including oil facilities), against any air, land, or sea port in Libya, or against any foreign mission in Libya.

Dated: September 12, 2018.
Andrea M. Gacki,
Acting Director, Office of Foreign Assets Control.

[FR Doc. 2018-20611 Filed 9-20-18; 8:45 am]

BILLING CODE 4810-AL-P